INTERNATIONAL TRADE COMMISSION

[Inv. No. 337-TA-506]

In the Matter of Certain Optical Disk Controller Chips and Chipsets and Products Containing Same, Including DVD Players and PC Optical Storage Devices; Notice of Commission Decision Not To Review an Initial Determination Amending the Complaint and Notice of Investigation To Add Nine Additional Respondents

AGENCY: U.S. International Trade Commission.

ACTION: Notice.

SUMMARY: Notice is hereby given that the U.S. International Trade Commission has determined not to review the presiding administrative law judge's (“ALJ's”) initial determination (“ID”) amending the complaint and notice of investigation to add nine additional respondents.

FOR FURTHER INFORMATION CONTACT: Clara Kuehn, Esq., Office of the General Counsel, U.S. International Trade Commission, 500 E Street, SW., Washington, DC 20436, telephone (202) 205-3012. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on (202) 205-1810.

SUPPLEMENTARY INFORMATION: The Commission instituted this investigation on April 14, 2004, based on a complaint filed on behalf of Zoran Corporation and Oak Technology, Inc. both of Sunnyvale, CA (collectively “complainants”). 69 FR 19876. The complaint, as supplemented, alleged violations of section 337 of the Tariff Act of 1930 in the importation into the United States, the sale for importation, and the sale within the United States after importation of certain optical disk controller chips and chipsets and products containing same, including DVD players and PC optical storage devices, by reason of infringement of claims 1-12 of U.S. Patent No. 6,466,736, claims 1-3 of U.S. Patent No. 6,584,527, and claims 1-35 of U.S. Patent No. 6,546,440. The notice of investigation identified 12 respondents. On June 7, 2004, the ALJ issued an ID (Order No. 5) terminating the investigation as to two respondents on the basis of a consent order and settlement agreement.

On June 10, 2004, complainants filed a motion to amend the complaint and notice of investigation, pursuant to Commission rule 210.14(b), to add nine additional respondents: (1) Artronix Technology, Inc. of Brea, CA; (2) ASUS Computer International of Fremont, CA; (3) Audiovox Corporation of Hauppauge, NY; (4) EPO Science & Technology, Inc. of Taipei, Taiwan; (5) Initial Technology, Inc. of La Verne, CA; (6) Micro-Star International Co., Ltd. of Taipei Hsein, Taiwan; (7) MSI Computer Corp. of City of Industry, CA; (8) Shinco Digital Technology, Ltd. of Jiangsu, China; and (9) Ultima Electronics Corporation of Taipei, Taiwan.

On June 21, 2004, the Commission investigative attorney filed a response supporting the motion. On the same day, attorneys representing the twelve respondents named in the notice of investigation filed a response opposing the motion. On June 21, 2004, complainants filed a letter containing copies of certain material cited in the motion.

On June 22, 2004, the ALJ issued an ID (Order No. 7) granting the motion to amend the complaint and notice of investigation. No petitions for review of the ID were filed.

The authority for the Commission's determination is contained in section 337 of the Tariff Act of 1930, as amended (19 U.S.C. 1337), and in section 210.42 of the Commission's Rules of Practice and Procedure (19 CFR 210.42).

Issued: July 13, 2004.
By order of the Commission.
Marilyn R. Abbott,
Secretary to the Commission.

[FR Doc. 04-16288 Filed 7-16-04; 8:45 am]

BILLING CODE 7020-02-P